DEPARTMENT OF LABOR

Employment and Training Administration

[TA-W-59,930]

Shaw Mudge and Company Shelton, CT; et al.; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on October 11, 2006, applicable to workers of Shaw Mudge and Company, Shelton, Connecticut. The notice was published in the Federal Register on October 25, 2006 (71 FR 62490).

At the request of a State agency, the Department reviewed the certification for workers of the subject firm. New information shows that worker separations have occurred involving five employees of the Shelton, Connecticut facility of Shaw Mudge and Company located in Whitehouse, New Jersey; West Milford, New Jersey; Morris Township, New Jersey; Calabasas, California; and Harrington, Maine. Ms. Angela Kohut, Mr. Peter Obermeyer, Mr. Allan Streit, Ms. Tracy Gedney and Mr. David Ramsdell provided sales function services for the production of fragrances produced by the subject company.

Based on these findings, the Department is amending this certification to include employees of the Shelton, Connecticut facility of Shaw Mudge and Company located in Whitehouse, New Jersey; West Milford, New Jersey; Morris Township, New Jersey; Calabasas, California; and Harrington, Maine.

The intent of the Department's certification is to include all workers of Shaw Mudge and Company, Shelton, Connecticut who were adversely affected by increased customer imports.

The amended notice applicable to TA-W-59,930 is hereby issued as follows:

“All workers of Shaw Mudge and Company, Shelton, Connecticut (TA-W-59,930) and including employees of Shaw Mudge and Company, Shelton, Connecticut, located in Whitehouse, New Jersey (TA-W-59,930A); West Milford, New Jersey (TA-W-59,930B); Morris Township, New Jersey (TA-W-59,930C); Calabasas, California (TA-W-59,930D); and Harrington, Maine (TA-W-59,930E), who became totally or partially separated from employment on or after August 18, 2005, through October 11, 2008, are eligible to apply for adjustment assistance under Section 223 of the Trade Act of 1974 and are also eligible to apply for alternative trade adjustment assistance under Section 246 of the Trade Act of 1974.”

Signed at Washington, DC, this 13th day of November 2006.
Richard Church,
Certifying Officer, Division of Trade Adjustment Assistance.

[FR Doc. E6-19717 Filed 11-21-06; 8:45 am]

BILLING CODE 4510-30-P